DEPARTMENT OF COMMERCE

Patent and Trademark Office

Agency Information Collection Activities; Submission to the Office of Management and Budget (OMB) for Review and Approval; Comment Request; Patent Processing

The United States Patent and Trademark Office (USPTO) will submit the following information collection request to the Office of Management and Budget (OMB) for review and clearance in accordance with the Paperwork Reduction Act of 1995, on or after the date of publication of this notice. The USPTO invites comment on this information collection renewal, which helps the USPTO assess the impact of its information collection requirements and minimize the public's reporting burden. Public comments were previously requested via the Federal Register on September 29, 2020 during a 60-day comment period. This notice allows for an additional 30 days for public comments.

Agency: United States Patent and Trademark Office, Department of Commerce.

Title: Patent Processing.

OMB Control Number: 0651-0031.

Form Number(s): (AIA = American Invents Act; SB = Specimen Book; PTOL = Patent and Trademark Office Legal)

• PTO/AIA/22 (Petition for Extension of Time under 37 CFR 1.136(a))

• PTO/AIA/24 (Express Abandonment under 37 CFR 1.138)

• PTO/AIA/24B (Petition for Express Abandonment to Obtain a Refund)

• PTO/AIA/33 (Pre-appeal Brief Request for Review)

• PTO/AIA/96 (Statement under 37 CFR 3.73(c))

• PTO/SB/08a and b (Information Disclosure Statement)

• PTO/SB/17i (Processing Fee under 37 CFR 1.17(i) Transmittal)

• PTO/SB/21 (Transmittal Form)

• PTO/SB/22 (Petition for Extension of Time under 37 CFR 1.136(a))

• PTO/SB/24 (Express Abandonment under 37 CFR 1.138)

• PTO/SB/24B (Petition for Express Abandonment to Obtain a Refund- applications filed on or before September 16, 2012)

• PTO/SB/25 (Terminal Disclaimer to Obviate a Provisional Double Patenting Rejection Over a Pending “Reference” Application)

• PTO/SB/26 (Terminal Disclaimer to Obviate a Double Patenting Rejection over a “Prior” Patent)

• PTO/SB/27 (Request for Expedited Examination of a Design Application)

• PTO/SB/30 (Request for Continued Examination (RCE) Transmittal)

• PTO/SB/33 (Pre-appeal Brief Request for Review—applications filed on or before September 16, 2012)

• PTO/SB/35 (Nonpublication Request under 35 U.S.C. 122(b)(2)(B)(i))

• PTO/SB/36 (Rescission of Previous Nonpublication Request (35 U.S.C. 122(b)(2)(B)(ii) and, if applicable, Notice of Foreign Filing (35 U.S.C. 122(b)(2)(B)(iii))

• PTO/SB/37 (Request for Suspension of Action or Deferral of Examination under 37 CFR 1.103(b), (c), or (d)—applications filed on or before September 16, 2012)

• PTO/SB/38 (Request to Retrieve Electronic Priority Application(s))

• PTO/SB/39 (Authorization or Rescission of Authorization to Permit Access to Application-as-filed by Participating Offices)

• PTO/SB/43 (Disclaimer in Patent Under 37 CFR 1.321(a))

• PTO/SB/63 (Terminal Disclaimer to Accompany Petition)

• PTO/SB/64 (Petition for Revival of an Application for Patent Abandoned Unintentionally)

• PTO/SB/64a (Petition for Revival of an Application for Patent Abandoned for Failure to Notify the Office of a Foreign or International Filing)

• PTO/SB/64PCT (Petition for Revival of an International Application for Patent Abandoned Unintentionally)

• PTO/SB/67 (Power to Access, Inspect, and Copy)

• PTO/SB/68 (Request for Access to an Abandoned Application Under 37 CFR 1.14)

• PTO/SB/91 (Deposit Account Order Form)

• PTO/SB/92 (Certificate of Mailing or Transmission)

• PTO/SB/96 (Statement under 37 CFR 3.73(c))

• PTO/SB/130 (Petition to Make Special Based on Age for Advancement of Examination under 37 CFR 1.102(c)(1))

• PTO/SB/413C (Request for First-Action Interview (Full Pilot Program))

• PTO-2053-A/B; PTO-2054-A/B; and PTO-2055-A/B (Copy of the Applicant or Patentee's Record of the Application)

• PTOL/413A (Applicant-Initiated Interview Request Form)

Type of Request: Extension and revision of a currently approved information collection.

Number of Respondents: 3,669,397 respondents per year.

Average Hours per Response: The USPTO estimates that it will take approximately 2 minutes (0.08 hours) to 8 hours to complete a single response. This includes the time to gather the necessary information, prepare the appropriate documents, and submit the completed response to the USPTO.

Estimated Total Annual Respondent Burden Hours: 3,187,341 hours.

Estimated Total Annual Non-Hour Cost Burden: $408,845,999.

Needs and Uses: The United States Patent and Trademark Office (USPTO) is required by 35 U.S.C. 131 to examine an application for patent and, when appropriate, issue a patent. The USPTO is also required to publish patent applications, with certain exceptions, promptly after the expiration of a period of 18 months from the earliest filing date for which a benefit is sought under Title 35, U.S.C. (“eighteen-month publication”). Certain situations may arise which require that additional information be supplied in order for the USPTO to further process the patent or application. The USPTO administers the statutes through various sections of the rules of practice in 37 CFR part 1. The information in this collection can be used by the USPTO to continue the processing of the patent or application to ensure that applicants are complying with the patent regulations and to aid in the prosecution of the application.

Affected Public: Private sector; individuals or households.

Frequency: On occasion.

Respondent's Obligation: Required to obtain or retain benefits.

This information collection request may be viewed at www.reginfo.gov. Follow the instructions to view Department of Commerce, USPTO information collections currently under review by OMB.

Written comments and recommendations for this information collection should be submitted within 30 days of the publication of this notice on the following website www.reginfo.gov/public/do/PRAMain. Find this particular information collection by selecting “Currently under 30-day Review—Open for Public Comments” or by using the search function and entering either the title of the information collection or the OMB Control Number 0651-0031.

Further information can be obtained by:

• Email: InformationCollection@uspto.gov. Include “0651-0031 information request” in the subject line of the message.

• Mail: Kimberly Hardy, Office of the Chief Administrative Officer, United States Patent and Trademark Office, P.O. Box 1450, Alexandria, VA 22313-1450.

Kimberly Hardy,
Information Collections Officer, Office of the Chief Administrative Officer, United States Patent and Trademark Office.

[FR Doc. 2020-26359 Filed 11-27-20; 8:45 am]

BILLING CODE 3510-16-P